DEPARTMENT OF TRANSPORTATION

Federal Aviation Administration

Fifth Meeting: RTCA Special Committee 203/Minimum Performance Standards for Unmanned Aircraft Systems and Unmanned Aircraft

AGENCY: Federal Aviation Administration (FAA), DOT.

ACTION: Notice of RTCA Special Committee 203, Minimum Performance Standards for Unmanned Aircraft Systems and Unmanned Aircraft.

SUMMARY: The FAA is issuing this notice to advise the public of a meeting of RTCA Special Committee 203, Minimum Performance Standards for Unmanned Aircraft Systems and Unmanned Aircraft.

DATES: The meeting will be held January 24-26, 2006, starting at 9 a.m.

ADDRESSES: The meeting will be held at Northrop Grumman Integrated Systems Unmanned Systems, 16710 Via Del Campo Ct., Building 6, San Diego, California 92127. On site contact: Ms. Mary Kruse, mary.kruse@ngc.com, (858) 618-4693.

FOR FURTHER INFORMATION CONTACT: (1) RTCA Secretariat, 1828 L Street, NW., Suite 805, Washington, DC, 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 203 meeting. The agenda will include:

January 24: Tuesday, 9 a.m.-11:30 a.m.

• Opening Special Session—(Welcome and Co-Chairman's Introductory Remarks, Approval of Fourth Plenary Meeting Summary, New Business, Plenary Adjourns until January 26 at 1 p.m.).

• Working Group 1 general session.

• Review WG 1 progress since the fourth Plenary.

• Sub group leader reports—presentation of issues, work plan for week, goals for Thursday report-out.

1 p.m.-4 p.m.

• Working Group 1 and Sub-Group Writing Teams in working sessions.

January 25: Wednesday, 9 a.m.-4 p.m.

• Sub-Group Writing Teams continue in working sessions.

January 26: Thursday, 9 a.m.-3 p.m.

• Sub-Group Writing Teams continue in working sessions.

3 p.m.-5 p.m.

• Reconvene Working Group 1.

• Sub groups report out.

• Identify sub group action items.

• Develop strategy for future work.

• Closing Plenary Session (Reconvene the Plenary, Prepare for Plenary #6, Date and Place of Next Meeting, Review Plenary Action Items, Other Business, and Adjourn).

Important notes:

• Note that the final plenary session will not end until 5 p.m. on January 26, 2006. Out of town attendees should make travel plans accordingly.

• No Cell phones with cameras will be allowed.

• All visitors are required to have “Escort Required” badges for entry into Northrop Grumman, and must forward the following information to Mr. Greg Loegering (greg.loegering@ngc.com) as soon as possible, but at least 10 working days prior to the meeting for issuance of these badges:

• Visitor's Name.

• Company/Organization Name.

• Company Organization Address.

• Whether the company you represent is foreign controlled or owned/incorporated in the USA.

• Any non-US citizen planning to attend the meeting at Northrop Grumman will also be issued an “Escort Required” badge and must forward the following information to Mr. Greg Loegering (greg.loegering@ngc.com) as soon as possible, but at least 10 working days prior to the meeting, or risk being unable to be admitted to the Northrop Grumman facility, where the meeting is being held:

• Visitor's Full Name.

• Company/Organization Name.

• Company/Organization Address.

• Where visitor's company is incorporated.

• Visitor's date of birth.

• Visitor's place of birth.

• Visitor's passport number.

• Visitor's passport expiration date.

• Issuing country of visitor's passport.

• Visitor's country of citizenship.

Upon entrance into the Northrop Grumman facility, you would be required to show a valid state photo ID (i.e., driver's license or other official state ID document), military/government ID card, passport, or resident alien registration card.

• Working Group 1 Sub-Group 3 will meet at General Atomics (driving instructions will be provided at the Plenary session) located at: General Atomics Aeronautical Systems, Inc., 13330 Evening Creek Drive, Building 5, San Diego, California 92127, On-site Contact: Mr. Michael Neale, Phone: (858-518-7939). You will be required to show a valid photo (driver's license; passport) ID upon entrance in the General Atomics facility.

• Dress: Business Casual.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on January 5, 2006.
Natalie Ogletree,
FAA General Engineer, RTCA Advisory Committee.

[FR Doc. 06-343 Filed 1-12-06; 8:45 am]

BILLING CODE 4910-13-M